ENVIRONMENTAL PROTECTION AGENCY

[EPA-HQ-OECA-2018-0250; FRL-9991-01-OEI]

Information Collection Request Submitted to OMB for Review and Approval; Comment Request; NSPS for New Residential Hydronic Heaters and Forced-Air Furnaces (Renewal)

AGENCY: Environmental Protection Agency (EPA).

ACTION: Notice.

SUMMARY: The Environmental Protection Agency (EPA) has submitted an information collection request (ICR), NSPS for New Residential Hydronic Heaters and Forced-Air Furnaces (EPA ICR No. 2442.03, OMB Control No. 2060-0693), to the Office of Management and Budget (OMB) for review and approval in accordance with the Paperwork Reduction Act. This is a proposed extension of the ICR, which is currently approved through March 31, 2019. Public comments were previously requested, via the Federal Register, on May 30, 2018 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before April 25, 2019.

ADDRESSES: Submit your comments, referencing Docket ID Number EPA-HQ-OECA-2018-0250, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The New Source Performance Standards (NSPS) for New Residential Hydronic Heaters and Forced-Air Furnaces (40 CFR part 60, subpart QQQQ) to new residential hydronic heaters, forced-air furnaces, or other central heaters manufactured either on or after May 15, 2015 and sold or distributed in the United States. The residential hydronic heater and forced-air furnace NSPS establishes a certification program, instead of the usual NSPS requirement that each affected facility demonstrate compliance with emission limits through performance testing. Under this certification program, a single heating appliance is tested to demonstrate compliance with particulate matter (PM) emission limits for an entire model line which could consist of thousands of stoves. The use of a certification approach significantly reduces the compliance burden, including information collection, for the manufacturers of hydronic heaters and forced-air furnaces. Each manufacturer subject to Subpart QQQQ is required to keep records of all documentation pertaining to the certification testing for each model line, the results of the quality assurance program inspections, and a sealed sample of each heater or furnace upon which certification tests were performed and certification granted. Each approved test laboratory and third-party certifier must maintain records consisting of all documentation pertaining to each certification test, quality assurance program inspection and audit test. Manufacturers must also submit the test reports and other documentation to EPA when they apply for a certificate of compliance for each model line. These reports, and records are essential in determining compliance, and are required of all affected facilities subject to NSPS. This information is being collected to assure compliance with 40 CFR part 60, subpart QQQQ.

Form Numbers: None.

Respondents/affected entities: New residential hydronic heaters, forced-air furnaces, or other central heaters manufactured either on or after May 15, 2015 and sold or distributed in the United States. These regulations also apply to EPA-approved testing laboratories and EPA-approved third-party certifiers.

Respondent's obligation to respond: Mandatory (40 CFR 60 Subpart QQQQ).

Estimated number of respondents: 50 respondents, consisting of 32 hydronic heater manufacturers, 7 forced-air furnace manufacturers, and 11 companies that are EPA-approved testing laboratories, third-party certifiers or both.

Frequency of response: Annual.

Total estimated burden: 4,270 hours (per year). Burden is defined at 5 CFR 1320.3(b).

Total estimated cost: $4,770,000 (per year), which includes $4,280,000 in annualized capital/startup and/or operation & maintenance costs.

Changes in the Estimates: The increase in burden from the most recently-approved ICR is due to an increase in the number of respondents and an increase in the number of testing labs and third-party certifiers. The increase in burden is also due to an adjustment to the burden for reporting by third-party certifiers to include burden for submittal of certifications, QA audit program reports, and credentials. Additionally, there is an increase in the annual average capital/startup costs as compared with the costs in the previous ICR, due to a number of testing labs and third-party certifiers expected to re-apply for re-accreditation in the three-year period. The overall result is an increase in the number of responses and in the burden.

Courtney Kerwin,
Director, Regulatory Support Division.

[FR Doc. 2019-05741 Filed 3-25-19; 8:45 am]

BILLING CODE 6560-50-P